DEPARTMENT OF DEFENSE

Department of the Army

[Docket ID: USA-2016-HQ-0036]

Privacy Act of 1974; System of Records

AGENCY: Department of the Army, DoD.

ACTION: Notice to alter a System of Records.

SUMMARY: Pursuant to the Privacy Act of 1974 and Office of Management and Budget (OMB) Circular No. A-130, notice is hereby given that the Department of the Army proposes to alter a system of records, A0037-104-3 USMA, entitled “USMA Cadet Account System,” last published at 65 FR 3219, January 20, 2000. This system of records exists to enable Cadets to receive income (salary, scholarship, individual deposits, etc.) and pay for expenses (uniforms, books, a computer, activity fees, etc.) while attending the United States Military Academy (USMA) at West Point. The program is managed by the USMA Treasurer who is charged with ensuring all cadets meet their USMA financial obligations.

This revision reflects considerable administrative changes that in sum warrant an alteration to the system of records notice. There are two significant changes: The categories of records has been updated to provide additional details on the information collected; and the applicable DoD Routine Uses have been incorporated in the notice to provide clarity for the public. There are also modifications to the system name, authorities, purpose, storage, retrievability, safeguards, notification and record access procedures, contesting record procedures, and records source categories to improve readability and update the notice to meet current departmental standards.

DATES: Comments will be accepted on or before December 15, 2016. This proposed action will be effective the date following the end of the comment period unless comments are received which result in a contrary determination.

ADDRESSES: You may submit comments, identified by docket number and title, by any of the following methods:

* Federal Rulemaking Portal: http://www.regulations.gov.

Follow the instructions for submitting comments.

* Mail: Department of Defense, Office of the Deputy Chief Management Officer, Directorate of Oversight and Compliance, 4800 Mark Center Drive, Mailbox #24, Alexandria, VA 22350-1700.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Tracy Rogers, Department of the Army, Privacy Office, U.S. Army Records Management and Declassification Agency, 7701 Telegraph Road, Casey Building, Suite 144, Alexandria, VA 22325-3905 or by calling (703) 428-7499.

SUPPLEMENTARY INFORMATION: The Department of the Army's notices for system of records subject to the Privacy Act of 1974 (5 U.S.C. 552a), as amended, have been published in the Federal Register and are available from the address in FOR FURTHER INFORMATION CONTACT or from the Defense Privacy, Civil Liberties, and Transparency Division Web site http://dpcld.defense.gov/.

The proposed systems reports, as required by 5 U.S.C. 552a(r) of the Privacy Act, as amended, were submitted on October 20, 2016, to the House Committee on Oversight and Government Reform, the Senate Committee on Homeland Security and Governmental Affairs, and the Office of Management and Budget (OMB) pursuant to paragraph 4 of Appendix I to OMB Circular No. A-130, “Federal Agency Responsibilities for Maintaining Records About Individuals,” revised November 28, 2000 (December 12, 2000 65 FR 77677).

Dated: November 9, 2016.
Aaron Siegel,
Alternate OSD Federal Register Liaison Officer, Department of Defense.

A0037-104-3 USMA

System name:

USMA Cadet Account System (January 20, 2000, 65 FR 3219)

Changes:

* * * * *

System Name:

Delete entry and replace with: “United States Military Academy (USMA) Cadet Account System”.

* * * * *

Categories of records in the system:

Delete entry and replace with “Name, address, Social Security Number (SSN), cadet account number, personal bank account number, monthly deposit listings of Corps of Cadets members showing entitlements, financial statements and schedules, and activities pertaining to funds held in trust by the USMA Treasurer.”

Authority for maintenance of the system:

Delete entry and replace with “10 U.S.C. 3013, Secretary of Army; 10 U.S.C. 4340, Quartermaster; 10 U.S.C. 4350, Cadets: Clothing and equipment; Title 7—Fiscal Guidance, General Accounting Office Policy and Procedures Manual for Guidance of Federal Agencies; Army Regulation 210-26, United States Military Academy; and E.O. 9397 (SSN), as amended.”

Purpose:

Delete entry and replace with “To compute debits and credits posted against cadet account balances. Debits include charges to the cadet's account for uniforms, textbooks, computers and related supplies, academic supplies, various fees; credits include advance pay, monthly deposits from payroll, scholarships, initial deposits, interest accumulated on cadet account balances, and individual deposits.”

Routine uses of records maintained in the system, including categories of users and the purposes of such uses:

Delete entry and replace with “In addition to those disclosures generally permitted under 5 U.S.C. 552a(b) of the Privacy Act of 1974, as amended, the records contained herein may specifically be disclosed outside the DoD as a routine use pursuant to 5 U.S.C. 552a(b)(3) as follows:

Law Enforcement Routine Use. If a system of records maintained by a DoD Component to carry out its functions indicates a violation or potential violation of law, whether civil, criminal, or regulatory in nature, and whether arising by general statute or by regulation, rule, or order issued pursuant thereto, the relevant records in the system of records may be referred, as a routine use, to the agency concerned, whether federal, state, local, or foreign, charged with the responsibility of investigating or prosecuting such violation or charged with enforcing or implementing the statute, rule, regulation, or order issued pursuant thereto.

Disclosure When Requesting Information Routine Use. A record from a system of records maintained by a DoD Component may be disclosed as a routine use to a federal, state, or local agency maintaining civil, criminal, or other relevant enforcement information or other pertinent information, such as current licenses, if necessary to obtain information relevant to a DoD Component decision concerning the hiring or retention of an employee, the issuance of a security clearance, the letting of a contract, or the issuance of a license, grant, or other benefit.

Disclosure of Requested Information Routine Use. A record from a system of records maintained by a DoD Component may be disclosed to a federal agency, in response to its request, in connection with the hiring or retention of an employee, the issuance of a security clearance, the reporting of an investigation of an employee, the letting of a contract, or the issuance of a license, grant, or other benefit by the requesting agency, to the extent that the information is relevant and necessary to the requesting agency's decision on the matter.

Congressional Inquiries Disclosure Routine Use. Disclosure from a system of records maintained by a DoD Component may be made to a congressional office from the record of an individual in response to an inquiry from the congressional office made at the request of that individual.

Data Breach Remediation Purposes Routine Use. A record from a system of records maintained by a Component may be disclosed to appropriate agencies, entities, and persons when (1) The Component suspects or has confirmed that the security or confidentiality of the information in the system of records has been compromised; (2) the Component has determined that as a result of the suspected or confirmed compromise there is a risk of harm to economic or property interests, identity theft or fraud, or harm to the security or integrity of this system or other systems or programs (whether maintained by the Component or another agency or entity) that rely upon the compromised information; and (3) the disclosure made to such agencies, entities, and persons is reasonably necessary to assist in connection with the Components efforts to respond to the suspected or confirmed compromise and prevent, minimize, or remedy such harm.”

Policies and practices for storing, retrieving, accessing, retaining, and disposing of records in the system:

Storage:

Delete entry and replace with “Electronic storage media and microfiche.”

Retrievability:

Delete entry and replace with “By Cadet's account number, full name, or SSN.”

Safeguards:

Delete entry and replace with “Records are maintained in office areas which are secured and accessible only to authorized personnel. Access to computerized data is restricted by use of Common Access Cards (CACs) and is accessible only by users with an authorized account. The system is maintained in a controlled facility that employs physical restrictions and safeguards such as security guards, identification badges, key cards, and locks.”

* * * * *

Notification procedure:

Delete entry and replace with “Individuals seeking to determine whether information about themselves is contained in this system should address written inquiries to the Superintendent, U.S. Military Academy, ATTN: USMA Treasurer, West Point, NY 10996-1783.

Individual should provide full name, cadet account number, SSN, graduating class year, current address, telephone number, and signature.

In addition, the requester must provide a notarized statement or an unsworn declaration made in accordance with 28 U.S.C. 1746, in the following format:

If executed outside the United States: `I declare (or certify, verify, or state) under penalty of perjury under the laws of the United States of America that the foregoing is true and correct. Executed on (date). (Signature).'

If executed within the United States, its territories, possessions, or commonwealths: `I declare (or certify, verify, or state) under penalty of perjury that the foregoing is true and correct. Executed on (date). (Signature)’ ”

Record access procedures:

Delete entry and replace with “Individuals seeking access to information about themselves contained in this system should address written inquiries to the Superintendent, U.S. Military Academy, ATTN: USMA Treasurer, West Point, NY 10996-1783.

Individual should provide full name, cadet account number, SSN, graduating class year, current address, telephone number, and signature.

In addition, the requester must provide a notarized statement or an unsworn declaration made in accordance with 28 U.S.C. 1746, in the following format:

If executed outside the United States: `I declare (or certify, verify, or state) under penalty of perjury under the laws of the United States of America that the foregoing is true and correct. Executed on (date). (Signature).'

If executed within the United States, its territories, possessions, or commonwealths: `I declare (or certify, verify, or state) under penalty of perjury that the foregoing is true and correct. Executed on (date). (Signature).'

Personal visits may be made to the Treasurer, U.S. Military Academy; individual must provide acceptable identification such as valid driver's license and information that can be verified with his/her payroll.”

Contesting records procedures:

Delete entry and replace with “The Army's rules for accessing records, and for contesting contents and appealing initial agency determinations are contained in 32 CFR part 505, Army Privacy Program or may be obtained from the system manager.”

Record source categories:

Delete entry and replace with “From the individual, Department of Army, Department of the Treasurer, and financial institutions.”

* * * * *

[FR Doc. 2016-27404 Filed 11-14-16; 8:45 am]

BILLING CODE 5001-06-P